DEPARTMENT OF HOMELAND SECURITY

Federal Emergency Management Agency

44 CFR Part 65

Changes in Flood Elevation Determinations

AGENCY: Federal Emergency Management Agency, Emergency Preparedness and Response Directorate, Department of Homeland Security.

ACTION: Final rule.

SUMMARY: Modified Base (1% annual-chance) Flood Elevations (BFEs) are finalized for the communities listed below. These modified elevations will be used to calculate flood insurance premium rates for new buildings and their contents.

DATES: Effective Dates: The effective dates for these modified BFEs are indicated on the table below and revise the Flood Insurance Rate Maps (FIRMs) in effect for the listed communities prior to this date.

ADDRESSES: The modified BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

The modified BFEs are not listed for each community in this notice. However, this rule includes the address of the Chief Executive Officer of the community where the modified BFE determinations are available for inspection.

The modifications are made pursuant to Section 206 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings.

The changes in BFEs are in accordance with 44 CFR 65.4.

National Environmental Policy Act

This rule is categorically excluded from the requirements of 44 CFR Part 10, Environmental Consideration. No environmental impact assessment has been prepared.

Regulatory Flexibility Act

The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and record keeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and names of newspaper where notice was published | Chief executive officer of community | Effective date of modification | Community No.
Arkansas:
Pulaski (Case No.: 03-06-2056P) (FEMA Docket No. P-7636) | City of Little Rock | March 18, 2004; March 25, 2004; Arkansas Democrat Gazette | The Honorable Jim Dailey, Mayor, City of Little Rock, Little Rock City Hall, Room 203, 500 West Markham, Little Rock, AR 72201 | June 24, 2004 | 050181
Benton (Case No.: 03-06-2052P) (FEMA Docket No. P-7636) | City of Rogers | May 19, 2004; May 26, 2004; The Rogers Hometown News | The Honorable Steve Womack, Mayor, City of Rogers, 300 W. Poplar Street, Rogers, AR 72756 | May 3, 2004 | 050013
Illinois:
St. Clair (Case No.: 04-05-2333P) (FEMA Docket No. P-7636) | City of Belleville | May 5, 2004; May 12, 2004; The Belleville Journal | The Honorable Mark A. Kern, Mayor, City of Belleville, 101 South Illinois Street, Belleville, IL 62220 | Aug. 12, 2004 | 170618
Will (Case No.: 04-05-0084P) (FEMA Docket No. P-7636) | Village of Frankfort | May 20, 2004; May 27, 2004; The Herald News | The Honorable Ray Rossi, Mayor, Village of Frankfort, 432 West Nebraska Street, Frankfort, IL 60423 | May 4, 2004 | 170701
Cook (Case No.: 03-05-3383P) (FEMA Docket No. P-7636) | Village of Orland Park | May 20, 2004; May 27, 2004; Orland Township Messenger | The Hon. Daniel McLaughlin, Mayor, Village of Orland Park, Village Hall, 14700 South Ravinia Avenue, Orland Park, IL 60462 | Aug. 26, 2004 | 170140
Will (Case No.: 03-05-2577P) (FEMA Docket No. P-7634) | Unincorporated Areas | Feb. 18, 2004; Feb. 25, 2004; The Herald News | The Honorable Joseph Mikan, Will County Executive, Will County Office Building, 302 North Chicago Street, Joliet, IL 60432 | May 26, 2004 | 170695
Indiana:
Hendricks (Case No.: 03-05-3373P) (FEMA Docket No. P-7636) | Unincorporated Areas | May 17, 2004; May 24, 2004; Hendricks County Flyer | The Hon. Steven L. Ostermeier, President, Board of Commissioners, Hendricks County Gov't. Center, 355 South Washington, Suite 204, Danville, IN 46122 | Aug. 23, 2004 | 180415
Marion (Case No.: 03-05-3997P) (FEMA Docket No. P-7636) | City of Indianapolis | May 21, 2004; May 28, 2004; The Indianapolis Star | The Honorable Barthen Peterson, Mayor, City of Indianapolis, 200 East Washington Street, Suite 2501, City-County Building, Indianapolis, IN 46204 | Aug. 27, 2004 | 180159
Iowa: Polk (Case No.: 03-07-499P) (FEMA Docket No. P-7636) | City of Ankeny | Apr. 20, 2004; Apr. 27, 2004; Ankeny Press Citizen | The Honorable Merle O. Johnson, Mayor, City of Ankeny, City Hall, 410 West First Street, Ankeny, IA 50021 | July 27, 2004 | 190226
Michigan:
Wayne (Case No.: 03-05-3992P) (FEMA Docket No. P-7636) | Township of Canton | May 20, 2004; May 27, 2004; Canton Eagle | The Honorable Thomas Yack, Township Supervisor, Township of Cantonm 1150 South Canton Center, Canton, MI 48188 | Aug. 26, 2004 | 260219
Ingham (Case No.: 03-05-5186P) (FEMA Docket No. P-7636) | Charter Township of Meridian | May 23, 2004; May 30, 2004; The Town Courier | The Honorable Gerald Richards, Township Manager, Charter Township of Meridian, 5151 Marsh Road, Okemos, MI 48864-1198 | Aug. 29, 2004 | 260093
Oakland (Case No.: 03-05-5165P) (FEMA Docket No.: P-7634) | City of Novi | February 19, 2004; February 26, 2004; The Novi News | The Honorable Lou Csordas, Mayor, City of Novi, 45175 West 10 Mile Road, Novi, MI 48375 | Feb. 5, 2004 | 260175
Minnesota: Washington (Case No.: 03-05-2576P) (FEMA Docket No. P-7636) | City of Hugo | Mar. 31, 2004; Apr. 7, 2004; The White Bear Press | The Honorable Fran Miron, Mayor, City of Hugo, 14669 Fitzgerald Avenue North, Hugo, MN 55038 | Mar. 19, 2004 | 270504
Missouri: Lincoln (Case No.: 03-07-102P) (FEMA Docket No. P-7634) | City of Troy | Feb. 11, 2004; Feb. 18, 2004; Troy Free Press | The Hon. Charles H. Kemper, Jr. Mayor, City of Troy, P.O. Box 86, Troy, MO 63379 | May 19, 2004 | 290641
Nebraska: Lancaster (Case No.: 04-07-030P) (FEMA Docket No. P-7636) | City of Lincoln | May 28, 2004; June 4, 2004; Lincoln Journal Star | The Honorable Coleen J. Seng, Mayor, City of Lincoln, 555 South 10th Street, Lincoln, NE 68508 | May 5, 2004 | 315273
New Mexico:
Bernalillo (Case No.: 03-06-2542P) (FEMA Docket No. P-7634) | City of Albuquerque | Feb. 6, 2004; Feb. 13, 2004; Albuquerque Journal | The Honorable Martin Chavez, Mayor, City of Albuquerque, P.O. Box 1293, Albuquerque, NM 87103 | Jan. 27, 2004 | 350002
Bernalillo (Case No.: 04-06-039P) (FEMA Docket No. P-7636) | City of Albuquerque | Apr. 30, 2004; May 7, 2004; Albuquerque Journal | The Honorable Martin Chavez, Mayor, City of Albuquerque, P.O. Box 1293, Albuquerque, NM 87103 | Apr. 16, 2004 | 350002
Bernalillo (Case No.: 03-06-1927P) (FEMA Docket No. P-7636) | City of Albuquerque | May 19, 2004; May 26, 2004; Albuquerque Journal | The Honorable Martin Chavez, Mayor, City of Albuquerque, P.O. Box 1293, Albuquerque, NM 87103 | Aug. 25, 2004 | 350002
Bernalillo (Case No.: 03-06-832P) (FEMA Docket No. P-7636) | City of Albuquerque | June 11, 2004; June 18, 2004; Albuquerque Journal | The Honorable Martin Chavez, Mayor, City of Albuquerque, P.O. Box 1293, Albuquerque, NM 87103 | Sept. 17, 2004 | 350002
Bernalillo (Case No.: 04-06-671P) (FEMA Docket No. P-7636) | City of Albuquerque | Apr. 15, 2004; Apr. 22, 2004; Albuquerque Journal | The Honorable Martin Chavez, Mayor, City of Albuquerque, P.O. Box 1293, Albuquerque, NM 87103 | Mar. 23, 2004 | 350002
Bernalillo (Case No.: 04-06-039P) (FEMA Docket No. P-7636) | Unincorporated Areas | Apr. 30, 2004; May 7, 2004; Albuquerque Journal | The Honorable Tom Rutherford, Chairman, Bernalillo County, One Civic Plaza NW, Albuquerque, NM 87102 | Apr. 16, 2004 | 350001
Bernalillo (Case No.: 03-06-2542P) (FEMA Docket No. P-7634) | Unincorporated Areas | Feb. 6, 2003; Feb. 13, 2003; Albuquerque Journal | The Honorable Tom Rutherford, Chairman, Bernalillo County, One Civic Plaza NW, Albuquerque, NM 87102 | Jan. 27, 2004 | 350001
Bernalillo (Case No.: 04-06-654P) (FEMA Docket No. P-7636) | Unincorporated Areas | May 6, 2004; May 13, 2004; Albuquerque Journal | The Honorable Tom Rutherford, Chairman, Bernalillo County, One Civic Plaza NW, Albuquerque, NM 87102 | Apr. 20, 2004 | 350001
Ohio:
Butler (Case No.: 03-05-3976P) (FEMA Docket No. P7636) | Unincorporated Areas | May 19, 2004; May 26, 2004; Middletown Journal | The Honorable Michael A. Fox, President, Butler County, Commissioners, Government Services Center, 315 High Street, 6th Floor, Hamilton, OH 45011 | Aug. 25, 2004 | 390037
Butler & Warren (Case No.: 03-05-3976P) (FEMA Docket No. P-7636) | Village of Monroe | May 19, 2004; May 26, 2004; Middletown Journal | The Honorable Robert Routson, Mayor, Village of Monroe, 233 South Main Street, Monroe, OH 45050-0330 | Aug. 25, 2004 | 390042
Warren (Case No.: 03-05-5187P) (FEMA Docket No. P-7636) | Village of Springboro | May 13, 2004; May 20, 2004; The Springboro Star Press | The Honorable John Agenbroad, Mayor, Village of Springboro, 320 West Central Avenue, Springboro, OH 45066 | Aug. 19, 2004 | 390564
Warren (Case No.: 03-05-5187P) (FEMA Docket No. P-7636) | Unincorporated Areas | May 13, 2004; May 20, 2004; The Springboro Star Press | Mr. C. Michael Kilburn, President, Warren County Board of Commissioners, 320 West Central Avenue, Springboro, OH 45066 | Aug. 19, 2004 | 390757
Oklahoma:
Oklahoma (Case No.: 04-06-131P) (FEMA Docket No. P-7636) | City of Oklahoma City | May 28, 2004; June 4, 2004; The Daily Oklahoman | The Honorable Mick Cornett, Mayor, City of Oklahoma City, 200 North Walker, Suite 302, Oklahoma City, OK 73102 | May 5, 2004 | 405378
Oklahoma (Case No.: 04-06-140P) (FEMA Docket No. P-7634) | City of Oklahoma City | Jan. 15, 2004; Jan. 22, 2004; The Daily Oklahoman | The Honorable Guy Liebmann, Mayor, City of Oklahoma City, 200 North Walker, Suite 302, Oklahoma City, OK 73102 | Dec. 30, 2003 | 405378
Texas:
Williamson (Case No.: 04-06-651P) (FEMA docket No. P-7636) | City of Cedar Park | May 19, 2004; May 26, 2004; The Hill Country News | The Honorable Bob Young, Mayor, City of Cedar Park, 600 North Bell Boulevard, Cedar Park, TX 78613 | Aug. 25, 2004 | 481282
Fort Bend (Case No.: 04-06-561P) (FEMA Docket No. P-7636) | Fort Bend County MUD No. 23 | May 19, 2004; May 26, 2004; Fort Bend Star | Mr. Mark Massey, President, Board of Directors, Fort Bend County, MUD No. 23, 301 Jackson Street, Richmond, TX 77469 | Apr. 30, 2004 | 481590
Dallas (Case No.: 03-06-192P) (FEMA Docket No. P-7634) | City of Grand Prairie | Jan. 22, 2004; Jan. 29, 2004; Grand Prairie Morning News | The Honorable Charles England, Mayor, City of Grand Prairie, 317 College Street, Grand Prairie, TX 75050 | Jan. 12, 2004 | 485472
Harris (Case No.: 04-06-132P) (FEMA Docket No. P-7636) | Unincorporated Areas | Mar. 3, 2004; Mar. 10, 2004; The Houston Chronicle | The Honorable Robert A. Eckels, Judge, Harris County, 1001 Preston, Suite 911, Houston, TX 77002 | Feb. 9, 2004 | 480287
Collin (Case No.: 03-06-2322P) (FEMA Docket No. P-7634) | City of McKinney | Feb. 11, 2004; Feb. 18, 2004; McKinney Courier-Gazette | The Honorable Bill Whitfield, Mayor, City of McKinney, P.O. Box 517, McKinney, TX 75070 | May 19, 2004 | 480135
Dallas (Case No.: 03-06-1529P) (FEMA Docket No. P-7634) | City of Mesquite | Feb. 5, 2004; Feb. 12, 2004; Mesquite Morning News | The Honorable Mike Anderson, Mayor, City of Mesquite, P.O. Box 850137, Mesquite, TX 75185 | Jan. 21, 2004 | 485490
Dallas (Case No.: 03-06-1221P) (FEMA Docket No. P-7634) | City of Mesquite | Feb. 19, 2004; Feb. 26, 2004; The Mesquite News | The Honorable Mike Anderson, Mayor, City of Mesquite, P.O. Box 850137, Mesquite, TX 75185 | Jan. 29, 2004 | 485490
Midland (Case No.: 03-06-2045P) (FEMA Docket No. P-7634) | City of Midland | Jan. 22, 2004; Jan. 29, 2004; Midland Reporter-Telegram | The Honorable Michael J. Canon, Mayor, City of Midland, 300 North Loraine, Midland, TX 79701 | Apr. 30, 2004 | 480477
Bexar (Case No.: 03-06-2544P) (FEMA Docket No. P-7636) | City of San Antonio | May 24, 2004; May 31, 2004; San Antonio Express News | The Honorable Ed Garza, Mayor, City of San Antonio, P.O. Box 839966, San Antonio, TX 78283-3966 | Aug 30, 2004 | 480045
Bexar (Case No.: 03-06-2679P) (FEMA Docket No. P-7636) | City of San Antonio | May 24, 2004; May 31, 2004; San Antonio Express News | The Honorable Ed Garza, Mayor, City of San Antonio, P.O. Box 839966, San Antonio, TX 78283-3966 | Aug. 30, 2004 | 480045
Bexas (Case No.: 04-06-031P) (FEMA Docket No. P-7636) | City of San Antonio | May 24, 2004; May 31, 2004; San Antonio Express News | The Honorable Ed Garza, Mayor, City of San Antonio, P.O. Box 839966, San Antonio, TX 78283-3966 | June 30, 2004 | 480045
Dallas (Case No.: 04-06-566P) (FEMA Docket No. P-7636) | Town of Sunnyvale | Apr. 14, 2004; Apr. 21, 2004; Dallas Morning News | The Honorable Jim Phaup, Mayor, Town of Sunnyvale, 537 Long Creek Road, Sunnyvale, TX 75182 | Mar. 30, 2004 | 480188
Tarrant (Case No.: 03-06-2529P) (FEMA Docket No. P-7636) | City of White Settlement | June 3, 2004; June 10, 2004; White Settlement Bomber News | The Honorable James O. Ouzts, Mayor, City of White Settlement, 214 Meadow Park Drive, White Settlement, TX 76108 | May 14, 2004 | 480617

(Catalog of Federal Domestic Assistance No. 83.100, “Flood Insurance.”)
Dated: January 11, 2005.
David I. Maurstad,
Acting Director, Mitigation Division, Emergency Preparedness and Response Directorate.

[FR Doc. 05-1000 Filed 1-18-05; 8:45 am]

BILLING CODE 9110-12-P